NUCLEAR REGULATORY COMMISSION

[Docket Nos. 50-333-LT and 50-286-LT ASLBP No. 01-785-02-LT]

Power Authority of the State of New York and Entergy Nuclear Fitzpatrick LLC, Entergy Nuclear Indian Point 3 LLC, and Entergy Nuclear Operations, Inc. James A. Fitzpatrick Nuclear Power Plant and Indian Point Nuclear Generating Unit No. 3; Designation of Presiding Officer

Pursuant to delegation by the Commission, see 37 FR 28710 (Dec. 29, 1972), and CLI-00-22, 52 NRC_(Nov. 27, 2000), and the Commission's regulations, see 10 CFR 2.1319, notice is hereby given that a single member of the Atomic Safety and Licensing Board Panel is designated as Presiding Officer to conduct further proceedings in accordance with 10 CFR 2.1320 in the following case:

Power Authority of The State of New York, and Entergy Nuclear Fitzpatrick LLC, Entergy Nuclear Indian Point 3 LLC, and Entergy Nuclear Operations, Inc.

James A. FitzPatrick, Nuclear Power Plant, and Indian Point Nuclear Generating Unit No. 3

The hearing will be conducted pursuant to 10 CFR part 2, subpart M, of the Commission's Regulations, “Public Notification, Availability of Documents and Records, Hearing Requests and Procedures for Hearings on License Transfer Applications.” This proceeding concerns applications that together seek the Commission's authorization to transfer the ownership interest in, and operating/maintenance responsibility for (1) the Indian Point Nuclear Generating Unit No. 3 from the Power Authority of the State of New York (PASNY) to Entergy Nuclear Indian Point 3, LLC, and Entergy Nuclear Operations, Inc. (ENO), respectively; and (2) the James A. FitzPatrick Nuclear Power Plant from PASNY to Entergy Nuclear Indian Point 3, LLC, and ENO, respectively. The notices of consideration of these transfer requests and opportunity for hearing were published in the Federal Register on June 28, 2000. See 65 FR 39,953 (2000); 65 FR 39,954 (2000).

The Presiding Officer in this proceeding is Administrative Judge Charles Bechhoefer. All correspondence, documents, and other materials shall be filed with Judge Bechhoefer in accordance with 10 CFR § 2.1313. His mail and e-mail addresses are:

Administrative Judge Charles Bechhoefer, Presiding Officer, Atomic Safety and Licensing Board Panel, U.S. Nuclear Regulatory Commission, Washington, D.C. 20555-0001, E-mail: cxb2@nrc.gov.

Issued at Rockville, Maryland, this 28th day of November 2000.
G. Paul Bollwerk, III,
Chief Administrative Judge, Atomic Safety and Licensing Board Panel.

[FR Doc. 00-30904 Filed 12-4-00; 8:45 am]

BILLING CODE 7590-01-P